DEPARTMENT OF COMMERCE

National Oceanic and Atmospheric Administration

RIN 0648-XF208

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold nine public hearings/scoping workshops and two webinars to solicit public comments on Coral 7/Shrimp 17B.

DATES: The public hearings will be held February 21—March 21, 2017. The meetings will begin at 6 p.m. and will conclude no later than 9 p.m. For specific dates and times, see SUPPLEMENTARY INFORMATION. Written public comments must be received on or before 5 p.m. EST on Friday, March 3, 2017.

ADDRESSES: The public documents can be obtained by contacting the Gulf of Mexico Fishery Management Council, 2203 N. Lois Avenue, Suite 1100, Tampa, FL 33607; (813) 348-1630 or on their Web site at www.gulfcouncil.org.

Meeting addresses: The public hearings will be held in Key West, Madeira and Panama City, FL; Brownsville, Palacios and Galveston, TX; Gulfport, MS; Mobile, AL; Houma, LA; and two webinars (one for Shrimp 17B and one for Coral 7). For specific locations, see SUPPLEMENTARY INFORMATION.

Public comments: Comments may be submitted online through the Council's public portal by visiting www.gulfcouncil.org and clicking on “CONTACT US”.

FOR FURTHER INFORMATION CONTACT: Douglas Gregory, Executive Director, Gulf of Mexico Fishery Management Council; telephone: (813) 348-1630.

SUPPLEMENTARY INFORMATION: The agenda for the following nine hearings and two webinars are as follows: Council staff will brief the public on (1) Shrimp Amendment 17—Yield, Threshold Number or Permits, and Transit Provisions and (2) Coral Amendment 7—Recommended Coral Areas Identified as Priority Habitats for Management Consideration in the Gulf of Mexico. Staff will then open the meeting for questions and public comments. The schedule is as follows:

Locations, Schedules, and Agendas

Tuesday, February 21, 2017, Marriott Beachside, 3841 North Roosevelt Boulevard, Key West, FL 33040; telephone: (305) 296-8100; Courtyard by Marriott, 3955 North Expressway, Brownsville, TX 78520; telephone: (956) 350-4600.

Wednesday, February 22, 2017, Port of Palacios, 1602 Main Street, Palacios, TX 77465; telephone: (361) 972-5556.

Thursday, February 23, 2017, Courtyard by Marriott, 601 American Legion Drive, Madeira Beach, FL 33708; telephone: (727) 392-8088; Hilton Galveston Island, 5400 Seawall Boulevard, Galveston Island, TX 77551; telephone: (409) 744-5000.

Monday, March 6, 2017, Courtyard by Marriott, 142 Library Drive, Houma, LA 70360; telephone: (985) 223-8996.

Tuesday, March 7, 2017, Courtyard by Marriott, 1600 East Beach Boulevard, Gulfport, MS 39501; telephone: (228) 864-4310.

Wednesday, March 8, 2017, Renaissance Mobile Riverview Plaza Hotel, 64 South Water Street, Mobile, AL 36602; telephone: (251) 438-4000.

Thursday, March 9, 2017, Hilton Garden Inn, 1101 North US Highway 231, Panama City, FL 32405; telephone: (850) 392-1093.

Monday, March 20, 2017, Webinar at 6 p.m. EST: Public Hearing:

Amendment 7—Coral https://attendee.gotowebinar.com/register/5854284070433339649

Tuesday, March 21, 2017, Webinar at 6 p.m. EST: Public Hearing:

Amendment 17B—Shrimp https://attendee.gotowebinar.com/register/1465688961281780737

After registering, you will receive a confirmation email containing information about joining the webinar.

Special Accommodations

These meetings are physically accessible to people with disabilities. Requests for sign language interpretation or other auxiliary aids should be directed to Kathy Pereira (see ADDRESSES), at least 5 working days prior to the meeting date.

Authority: 16 U.S.C. 1801 et seq.

Dated: February 2, 2017.
Tracey L. Thompson,
Acting Deputy Director, Office of Sustainable Fisheries, National Marine Fisheries Service.

[FR Doc. 2017-02473 Filed 2-6-17; 8:45 am]

BILLING CODE 3510-22-P